FEDERAL COMMUNICATIONS COMMISSION

47 CFR Parts 2, 73, 74, 80, 90, and 97

[ET Docket No. 02-16; FCC 03-39]

Below 28 MHz

AGENCY: Federal Communications Commission.

ACTION: Final rule.

SUMMARY: In this document, the Commission amends its rules to implement domestically various allocation decisions from International Telecommunication Union (“ITU”) World Radiocommunication Conferences concerning the frequency bands below 28 MHz. The rules update the Commission's rules so they are more consistent with international regulations, update various rule parts to affect the allocation changes, and update rules that were not recently reviewed.

DATES: Effective June 12, 2003.

FOR FURTHER INFORMATION CONTACT: Shameeka Parrott, Office of Engineering and Technology, (202) 418-2062, email: sparrott@fcc.gov.

SUPPLEMENTARY INFORMATION: This is a summary of the Commission's Report and Order, ET Docket No. 02-16, FCC 03-39, adopted February 25, 2003, and released March 3, 2003. The full text of this Commission decision is available on the Commission's Internet site at www.fcc.gov. It is available for inspection and copying during normal business hours in the FCC Reference Information Center, Room CY-A257, 445 12th Street, SW., Washington, DC 20554. The complete text of this document also may be purchased from the Commission's copy contractor, Qualex International, Room CY-B402, 445 12th Street, SW., Washington, DC 20554. Alternate formats are available to persons with disabilities by contacting Brian Millin at (202) 418-7426 or TTY (202) 418-7365.

Summary of the Report and Order

1. In the Report and Order, the Commission amended parts 2, 73, 74, 80, 90, and 97 of the Commission's rules to implement domestically various allocation decisions from ITU World Radiocommunication Conferences concerning the frequency bands below 28 MHz.

2. International Broadcast Frequencies. The Commission found that implementing allocation changes from World Administration Radiocommunication Conference (“WARC”) 1979 and WARC-92 concerning high frequency broadcast (“HFBC”) would significantly increase the amount of spectrum available for HFBC, and conform to international regulations. The Commission states that implementing these allocation changes would promote national interest around the world and increase the international communications provided by HFBC.

3. To provide more effective use of the WARC-79 HFBC bands, the Commission deleted the fixed service allocation from the WARC-79 bands to make these bands available exclusively to the broadcasting service. These bands are also added to the Commission's rules for international broadcast stations, which provide an additional 850 kilohertz of exclusive spectrum for international broadcasters. Federal government agencies are permitted to operate existing fixed stations in the bands 9775-9900 kHz, 11650-11700 kHz, and 11975-12050 kHz on a non-harmful interference basis to the international broadcast stations.

4. Until the transition of the WARC-92 HFBC bands to exclusive broadcasting service use becomes effective on April 1, 2007, the Commission allocated the 790 kilohertz of spectrum to the broadcasting service on a shared primary basis with existing fixed and mobile services. Consistent with changes being made to the allocation of the WARC-92 HFBC bands, the Commission ceased to issue licenses for new non-Federal government stations in the fixed and mobile services on April 1, 2001. The Commission added informational notes to part 80 (the maritime service rules) stating that radioprinter use of the bands 5900-5950 kHz and 7300-7350 kHz and Alaska private-fixed station use of the frequency 11601.5 kHz is on the condition that harmful interference is not caused to HFBC.

5. The Broadcasting Board of Governors (“BBG”) filed comment in reference to limiting WARC-92 HFBC bands to single-sideband (“SSB”) technology, which BBG believed would limit flexibility and increase costs. The Commission agreed with BBG that international broadcasters would not use SSB techniques because recent ITU studies demonstrated extremely limited availability of SSB receivers.

6. Finally, the Commission amended rules that would update the international broadcasting rules to reflect current practices and make them consistent with ITU Radio Regulations. The Commission revised the frequency tolerance of 0.0015 percent of the assigned frequency to the current ITU standard of 10 hertz in § 73.756(c). Given that there are few HFBC stations and many are non-profit, the Commission is grandfathering existing stations that do not meet this new standard. Also, the HFBC definitions in § 73.701 of the rules are revised to reflect international requirements as specified in the WRC-97 Final Acts. Currently, the band 25600-25670 kHz is used by radio astronomy service and not by HFBC stations. Therefore, the Commission deleted this band from the list of frequencies available to HFBC stations in part 73 of the rules. With the Commission's rules now agreeing with the ITU Table of Frequency Allocations, domestic radio astronomy observations are protected in this range. The Commission also clarified the manner in which the 7100-7300 kHz band is to be used by international broadcast stations by adding cross references to the rules, and replacing the target zone map in § 73.703 with the current ITU target zone map. Finally, the last sentence in § 73.766 is modified by changing the highest modulating frequency from 5 kilohertz to 4.5 kilohertz to reflect a long-standing international provision.

7. AM Expanded Band. The Commission found that the public interest would be served providing additional cleared spectrum in the band 1605-1705 kHz for the AM broadcast service to improve the technical integrity of the service and to remove conflicting regulations from the Commission's rules. Obsolete service rules and frequency references for parts 74 and 90 in this band are removed in order to prevent incompatible frequency authorizations. This decision followed the Commission's deletion of the land mobile allocation from the band 1605-1705 kHz in 1983, in which frequencies within this band were inadvertently left in parts 74 and 90 of the rules. Specifically, the Commission removed the frequencies 1606 kHz, 1622 kHz, and 1646 kHz from § 74.402(a)(1); the frequency 1630 kHz from § 90.20(c)(3); the frequencies 1614 kHz, 1628 kHz, 1652 kHz, 1676 kHz, and 1700 kHz from § 90.35 (b)(3); and the band 1605-1705 kHz from § 90.263. Consistent with removing frequencies 1606 kHz, 1622 kHz, and 1646 kHz from § 74.402(a)(1), the Commission also eliminated all reference to those frequencies from §§ 74.402(a) and 74.402(e)(1) and section 74.462(b). Also, mobile travelers' information stations (“TIS”) continue to be authorized throughout the AM Expanded Band as specified in part 90 and Federal government TIS stations operating on 1610 kHz have primary status.

8. With four Industrial/Business Pool and two non-Federal government radiolocation licensees operating in the AM Expanded Band, these licensees are permitted to continue operation on a non-interference basis to AM radio and TIS stations, until the end of their current license term with no provision for renewal. If an Industrial/Business Pool or radiolocation service operation is causing interference to either an AM radio or TIS station, they will have to immediately cease transmission. The Commission found that there is sufficient alternative spectrum to meet the needs of licensees affected by this change and the Commission's staff will work with those licensees to help them find suitable alternative channels if the licensee desires. Also, no application fee will be charged to licensees of affected stations that apply for a modification to obtain alternative channels before the end of their license term.

9. In order to protect the technical integrity of the AM Expanded Band, the Commission deleted from the U.S. Table the Federal government and non-Federal government secondary radiolocation allocation in the band 1605-1705 kHz. The Commission found that these radiolocation operations can be relocated to the band 1900-2000 kHz without significant impact to current operations. Consistent with this decision, the Commission removed the band 1605-1705 kHz from the Radiolocation Service Frequency Table in § 90.103 of the rules and deleted unneeded assignment limitations. The Commission had conversations with NTIA concerning the Federal government's radiolocation assignments in the sub-band 1615-1705 kHz. NTIA agreed to relocate all Federal government stations currently operating in the AM Expanded Band within one year of the adoption date of this Report and Order (February 25, 2004). In response to this, the Commission is allowing the Federal government radiolocation stations to continue to operate during this one-year transition period on the condition that harmful interference is not caused to AM or TIS stations.

10. Continued Use of Frequencies by Broadcast Auxiliary Remote Pickup Stations. The Commission is allowing broadcast auxiliary stations to continue using the band 26100-26175 kHz because use of this band by such stations is significant and their secondary status will ensure that their operation will not hinder public coast stations. A review of the Commission's licensing database showed that there were currently no public coast stations making use of the four maritime frequencies (26110 kHz, 26130 kHz, 26150 kHz, and 26170 kHz). Therefore, remote pickup stations will not impact maritime mobile operations and will allow for greater use of the radio spectrum.

11. Maritime Services. The band 285-325 kHz is allocated for use in the United States to the maritime radionavigation service on a primary basis, limited to radiobeacons. These operations were authorized by NTIA through footnote G121 of its Manual, but this footnote was not previously coordinated with the Commission. Since this spectrum is Federal government/non-Federal government shared spectrum and both entities benefit from the use of differential global positioning system (“DGPS”) systems, the Commission reclassified this footnote as a U.S. footnote.

12. The Commission adopted international footnote 5.131 domestically, authorizing NAVTEX systems to use the 4209.5 kHz frequency exclusively for the transmission by coast stations of meteorological and navigational warnings and urgent information to ships by means of narrow-band direct-printing techniques. Since there are no incumbent users operating in this frequency, the United States Coast Guard (“USCG”) can operate NAVTEX with unencumbered access as a means to improving maritime safety broadcast service to mariners. Also, at the request of NTIA, the Commission adopted international footnote 5.79A domestically so that the operating characteristics of established stations in the NAVTEX service can be coordinated by the Federal government with other administrations consistent with the procedures of the International Maritime Organization.

13. After the ITU reduced the guard band for the distress and calling frequency at 500 kHz from 20 kilohertz to 10 kilohertz, the Commission deleted the 500 kHz from its maritime rules as a distress and safety frequency, but kept this frequency available for Morse radiotelegraph functions. At WRC-03 Member States will consider whether non-Global Maritime Distress and Safety System (“GMDSS”) requirements should be maintained in the ITU Radio Regulations, and until such time the Commission renumbered international footnote 472 as 5.83 in the U.S. Table. Also, until WRC-03 makes a decision, the Commission renumbered international footnotes 472a and 474 as 5.82 and 5.84, respectively, in the U.S. Table to reflect ITU changes.

14. Although, WARC-79 implementation transitioned the bands 4000-4063 kHz and 8100-8195 kHz to the maritime mobile service, these bands are equally or primarily used by the fixed service. Also, the ITU removed the resolution that facilitated the change of these bands to the maritime mobile service and its radio regulations maintain the fixed and maritime mobile service allocations in these bands on a co-primary basis. Therefore, the Commission removed US236 and reinstated the direct U.S. Table fixed service allocation for these bands on a primary basis to match the ITU table.

15. Aeronautical Fixed Service. In response to WRC-95, the Commission removed the limitation in footnote 459 on use of the 160-190 kHz band to aeronautical fixed use and allows all eligible fixed services to access this band. This brings our domestic rules in line with the ITU Radio Regulations and opens the band for utilization by other potential users. It is noted that the limitation only affects Region 2 polar areas and that Power Line Carrier (“PLC”) uses will be coordinated with fixed use of the band; therefore, the Commission found that lifting the aeronautical limitation will not harm the nation's power network.

16. The Federal Aviation Administration (“FAA”) indicated that they do not intend to implement an aircraft safety service in the band 21870-21924 kHz. Also, the Commission found no apparent domestic support for adopting international footnote 5.155B, which limits most fixed use of the band to the provision of services related to aircraft flight safety. Therefore, the Commission did not implement footnote 5.155B domestically, but maintains the footnote in the International Table for informational purposes.

17. Amateur Service. Because ITU Resolution No. 640 and international footnote 5.120 have been removed from the ITU Radio Regulations, the Commission removed footnote 5.120 and § 97.401(b) from the Commission's rules. The Commission did not think this would have an impact on the amateur stations to communicate with foreign stations in disaster areas, making the provisions based on the former ITU Resolution No. 640 unnecessary.

18. Frequencies Available for Forest Products Licensees. The Commission revised footnote US298 to agree with terminology now used in part 90 of the Commission's rules and added the frequencies indicated in the footnote to the Industrial/Business Radio Pool Frequency Table in § 90.35, with an appropriate note describing the limited use that is permitted. This decision does not change any regulatory requirements, but merely makes the Commission's rules easier to understand.

19. Ministerial Conforming Actions. The Commission made many non-substantive changes to update and correct the U.S. Table with regards to frequency allocations below 28 MHz, while the Commission also changed U.S. footnotes to conform to previous decisions and to update material in certain rule parts. These changes were made to remove unnecessary material from the Commission's rules and to reflect WRC-2000 Final Acts with regard to the International Table of Frequency Allocations within the Rules.

20. The Commission removed international footnote 5.60 from the bands 70-90 kHz and 110-130 kHz because this footnote addressed a limitation on an allocation that was never made domestically. Further, the Commission removed the superfluous international footnote 5.80 from the band 415-435 kHz because it addressed limitations that did not apply to this band. The Commission also removed the secondary direct U.S. Table allocation for the space research service in the band 19990-19995 kHz because this allocation was contained in footnote G106, which was recently added to the band 19990-20010 kHz. The Commission updated footnote US82 by removing maritime channels that were reallocated for other purposes in 1991, thus indicating clearly the channels that are available for ship and coast station operations.

21. Further, the Commission added an informational note to § 90.35 stating that the use of frequencies 25120 kHz, 25140 kHz, 25160 kHz, 25180 kHz, and 25200 kHz were on a secondary basis to stations in the maritime mobile service (part 80). In footnote US281, the Commission changed the band “25.07-25.11 MHz” to “25070-25210 kHz” and updated “industrial radio service” and “Forest Products Radio Service” to “Industrial/Business Pool.” Limitation 9 in 47 CFR 90.35 states this fact about footnote US281 and was added to the frequencies 25120 kHz, 25140 kHz, 25160 kHz, 25180 kHz, and 25200 kHz.

22. Additionally, the Commission updated rule part cross reference in the U.S. Table. Specifically, the Commission deleted approximately 50 cross references to the International Fixed Public Radiocommunication Services (“IFPRS”) that no longer existed. Finally, the Commission updated 18 international country footnotes for informational purposes because they did not apply to Region 2.

Final Regulatory Flexibility Analysis

As required by the Regulatory Flexibility Act (“RFA”),¹ the Commission incorporated an Initial Regulatory Flexibility Analysis (“IRFA”) in the Notice of Proposed Rulemaking and Order (“Notice”), ET Docket No. 02-16.² The Commission sought written public comments on the proposals in the Notice, including the IRFA. The Final Regulatory Flexibility Analysis (“FRFA”) in the Report and Order conforms to the RFA, as amended by the Contract With America Advancement Act of 1996 (“CWAAA”), Public Law 104-121, 110 Stat. 847 (1996).

¹ See 5 U.S.C. 603. The RFA, see 5 U.S.C. 601 et seq., has been amended by the Contract With America Advancement Act of 1996, Public Law 104-121, 110 Stat. 847 (1996) (CWAAA). Title I of the CWAAA is the Small Business Regulatory Enforcement Fairness Act of 1996 (SBREFA).

² See Notice of Proposed Rule Making and Order, 17 FCC Rcd 2789 (2002).

By this action, the Commission reallocated 1640 kilohertz of spectrum from the fixed and mobile services to the broadcasting service. This action provides exclusive availability to broadcasting service in the HFBC bands. The Commission made consequential changes to various service rules that updated the rules for bands below 28000 kHz, so that they better comport with international regulations. Finally, this action clarifies the status of services in the AM Expanded Band (1605-1705 kHz).

The RFA directs agencies to provide a description of, and, where feasible, an estimate of the number of small entities that may be affected by the action taken.³ The RFA generally defines the term “small entity” as having the same meaning as the terms “small business,” “small organization,” and “small governmental jurisdiction.”⁴ In addition, the term “small business” has the same meaning as the term “small business concern” under the Small Business Act.⁵ A small business concern is one that: (1) Is independently owned and operated; (2) is not dominant in its field of operation; and (3) meets any additional criteria established by the Small Business Administration (“SBA”).⁶ A small organization is generally “any not-for-profit enterprise which is independently owned and operated and is not dominant in its field.”⁷ Nationwide, as of 1992, there were approximately 275,801 small organizations.⁸ Finally, “small governmental jurisdiction” generally means “governments of cities, counties, towns, townships, villages, school districts, or special districts, with a population of less than 50,000.”⁹

³ 5 U.S.C. 603(b)(3).

⁴ Id. 601(6).

⁵ 5 U.S.C. 601(3) (incorporating by reference the definition of “small business concern” in 15 U.S.C. 632). Pursuant to the RFA, the statutory definition of a small business applies “unless an agency, after consultation with the Office of Advocacy of the Small Business Administration and after opportunity for public comment, establishes one or more definitions of such term which are appropriate to the activities of the agency and publishes such definition(s) in the Federal Register.” 5 U.S.C. 601(3).

⁶ Small Business Act, 15 U.S.C. 632.

⁷ 5 U.S.C. 601(4)

⁸ 1992 Economic Census, U.S. Bureau of the Census, Table 6 (special tabulation of data under contract to Office of Advocacy of the U.S. Small Business Administration).

⁹ 5 U.S.C. 601(5).

Fixed Service. It is noted that there are 162 fixed assignments authorized under section 90.266 for long distance communications,¹⁰ Alaska private-fixed assignments,¹¹ and 5 aeronautical fixed station assignments ¹² that operate in the bands that were reallocated pursuant this Report and Order. Using the small business size standard, the Commission believed that most of the section 90.266 licensees are telephone, gas, and power companies that are not small businesses. Because the Commission estimated that most of these fixed service licensees would not qualify as small entities under the SBA definition, it is estimated that fewer than 184 small entities will be impacted by the reallocation.

¹⁰ 47 CFR 90.266.

¹¹ 47 CFR 80, subpart O—Alaska Fixed Stations.

¹² 47 CFR 87.275, 87.277, 87.279.

Maritime Service. The Commission noted that there are four public coast stations and four private coast stations licensees that operate in the bands being reallocated, and it is estimated that almost all of them qualify as small under the SBA size standard.

International Broadcast Stations. The transmissions of international broadcast stations are intended to be received directly by the general public in foreign countries.¹³ There are 24 international broadcast licensees, and the Commission estimated that almost all of them qualify as small under the SBA size standards.

¹³ See 47 CFR 73.701.

Private Land Mobile Radio Services. The Commission has not adopted a special small business size standard for private land mobile radio service licensees.¹⁴ Therefore the size standards and census data small business breakouts are utilized. This means that such entities are considered small if they employ no more than 1,500 persons. There are 4 Industrial/Business Pool licensees and 2 radiolocation licensees in the AM Expanded Band, and the Commission believed that none of them qualify as small under the SBA size standards.

¹⁴ The service is defined in part 90 of the Commission's rules, 47 CFR 90.

One significant alternative that the Commission considered was whether or not to allow the few high frequency broadcast (“HFBC”) stations, many of which are non-profit, a longer time to transition from outdated equipment. This transition relief will be necessary in instances in which equipment cannot maintain the stringent tolerance required by the amended rule. This Commission determined to grandfather existing international broadcast stations at their current frequency tolerance.¹⁵ This will assist such non-profits, including small entities, by providing relief from the rule as revised. Also, with regard to small entities and others operating in the AM Expanded Band, Commission staff will work with affected licensees to help them find suitable alternative channels if the licensee desires.¹⁶ No fee will be charged to licensees of affected stations that apply for modification for alternative channels before the end of their license term.

¹⁵ See Report and Order ¶ 15.

¹⁶ See Report and Order ¶ 19.

The Commission will send a copy of this Final Regulatory Flexibility Analysis, along with this Report and Order, in a report to be sent to Congress pursuant to the Congressional Review Act, 5 U.S.C. 801(a)(1)(A). In addition, the Commission will send a copy of this Report and Order, including this FRFA, to the Chief Counsel for Advocacy of the Small Business Administration.

List of Subjects

47 CFR Parts 2, 73, 74, 90, 97

Radio.

47 CFR Part 80

Alaska, Radio.

Federal Communications Commission.
William F. Caton,
Deputy Secretary.

Rule Changes

For the reasons discussed in the preamble, the Federal Communications Commission amends 47 CFR parts 2, 73, 74, 80, 90, and 97 as follows:

PART 2—FREQUENCY ALLOCATIONS AND RADIO TREATY MATTERS; GENERAL RULES AND REGULATIONS

1. The authority citation for part 2 continues to read as follows:

Authority: 47 U.S.C. 154, 302a, 303, and 336, unless otherwise noted.

2. Amend § 2.106 as follows:

a. Revise pages 1 through 21 of the Table.

b. In the list of International Footnotes in the Old Numbering Scheme, remove footnotes 459, 471, 472, 472A, 474, and 480.

c. In the list of United States Footnotes, revise footnotes US18, US25, US82, US104, US225, US231, US238, US281, US282, US283, US298, US321, US340, and US342. Remove footnotes US235 and US236. Add footnotes US364, US366, and US367.

The additions and revisions read as follows:

§ 2.106 Table of Frequency Allocations.

* * * * *

BILLING CODE 6712-01-P

BILLING CODE 6712-01-C

* * * * *

United States (US) Footnotes

* * * * *

US18 Navigation aids in the U.S. and its insular areas in the bands 9-14 kHz, 90-110 kHz, 190-415 kHz, 510-535 kHz, and 2700-2900 MHz are normally operated by the Federal Government. However, authorizations may be made by the FCC for non-Federal Government operations in these bands subject to the conclusion of appropriate arrangements between the FCC and the Federal agencies concerned and upon special showing of need for service which the Federal Government is not yet prepared to render.

* * * * *

US25 The use of frequencies 26110 kHz, 26130 kHz, 26151 kHz, and 26172 kHz may be authorized to non-Federal Government remote pickup broadcast base and mobile stations on the condition that harmful interference is not caused to the reception of either international broadcast stations transmitting in the band 25850-26100 kHz or to coast stations transmitting in the band 26100-26175 kHz.

* * * * *

US82 The assignable frequencies in the bands 4146-4152 kHz, 6224-6233 kHz, 8294-8300 kHz, 12353-12368 kHz, 16528-16549 kHz, 18825-18846 kHz, 22159-22180 kHz, and 25100-25121 kHz may be authorized on a shared non-priority basis to Federal and non-Federal Government ship and coast stations (SSB telephony, with peak envelope power not to exceed 1 kW).

* * * * *

US104 The LORAN Radionavigation System has priority in the band 90-110 kHz in the United States and its insular areas. Radiolocation land stations making use of LORAN-type equipment may be authorized to both Federal and non-Federal Government licensees on a secondary basis for offshore radiolocation activities only at specific locations and subject to such technical and operational conditions (e.g., power, emission, pulse rate and phase code, hours of operation), including on-the-air testing, as may be required on a case-by-case basis to ensure protection of the LORAN radionavigation system from harmful interference and to ensure mutual compatibility among radiolocation operators. Such authorizations to stations in the radiolocation service are further subject to showing of need for service which is not currently provided and which the Federal Government is not yet prepared to render by way of the radionavigation service.

* * * * *

US225 In addition to its present Federal Government use, the band 510-525 kHz is available to Federal and non-Federal Government aeronautical radionavigation stations inland of the Territorial Base Line as coordinated with the military services. In addition, the frequency 510 kHz is available for non-Federal Government ship-helicopter operations when beyond 100 nautical miles from shore and required for aeronautical radionavigation.

* * * * *

US231 When an assignment cannot be obtained in the bands between 200 kHz and 525 kHz, which are allocated to aeronautical radionavigation, assignments may be made to aeronautical radiobeacons in the maritime mobile band 435-490 kHz, on a secondary basis, subject to the coordination and agreement of those agencies having assignments within the maritime mobile band which may be affected. Assignments to Federal Government aeronautical radionavigation radiobeacons in the band 435-490 kHz shall not be a bar to any required changes to the maritime mobile radio service and shall be limited to non-voice emissions.

* * * * *

US238 On the condition that harmful interference is not caused to the reception of AM broadcast stations or to travelers' information stations, Federal Government stations in the band 1615-1705 kHz may continue operations until February 25, 2004.

* * * * *

US281 In the band 25070-25210 kHz, non-Federal Government stations in the Industrial/Business Pool shall not cause harmful interference to, and must accept interference from, stations in the maritime mobile service operating in accordance with the Table of Frequency Allocations.

US282 In the band 4650-4700 kHz, frequencies may be authorized for non-Federal Government communication with helicopters in support of off-shore drilling operations on the condition that harmful interference will not be caused to services operating in accordance with the Table of Frequency Allocations.

US283 In the bands 2850-3025 kHz, 3400-3500 kHz, 4650-4700 kHz, 5450-5680 kHz, 6525-6685 kHz, 10005-10100 kHz, 11275-11400 kHz, 13260-13360 kHz, and 17900-17970 kHz, frequencies may be authorized for non-Federal Government flight test purposes on the condition that harmful interference will not be caused to services operating in accordance with the Table of Frequency Allocations.

* * * * *

US298 Channels 27555 kHz, 27615 kHz, 27635 kHz, 27655 kHz, 27765 kHz, and 27860 kHz are available for use by forest product licensees on a secondary basis to Federal Government operations including experimental stations. Non-Federal Government operations on these channels will not exceed 150 watts output power and are limited to the states of Washington, Oregon, Maine, North Carolina, South Carolina, Tennessee, Georgia, Florida, Alabama, Mississippi, Louisiana, and Texas (eastern portion).

* * * * *

US321 The band 535-1705 kHz is also allocated to the non-Federal Government mobile service on a secondary basis for the distribution of public service information from Travelers' Information Stations operating in accordance with the provisions of 47 CFR 90.242 on 10 kilohertz spaced channels from 540 kHz to 1700 kHz.

* * * * *

US340 The band 2-30 MHz is available on a non-interference basis to Federal and non-Federal Government maritime and aeronautical stations for the purposes of measuring the quality of reception on radio channels. See 47 CFR 87.149 for the list of protected frequencies and bands within this frequency range. Actual communications shall be limited to those frequencies specifically allocated to the maritime mobile and aeronautical mobile services.

* * * * *

US342 In making assignments to stations of other services to which the following bands:

13360-13410 kHz,

25550-25670 kHz,

37.5-38.25 MHz,

322-328.6 MHz*,

1330-1400 MHz*,

1610.6-1613.8 MHz*,

1660-1670 MHz,

3260-3267 MHz*,

3332-3339 MHz*,

3345.8-3352.5 MHz*,

4825-4835 MHz*,

14.47-14.5 GHz*,

22.01-22.21 GHz*,

22.21-22.5 GHz,

22.81-22.86 GHz*,

23.07-23.12 GHz*,

31.2-31.3 GHz,

36.43-36.5 GHz*,

42.5-43.5 GHz,

48.94-49.04 GHz*,

93.07-93.27 GHz*,

97.88-98.08 GHz*,

140.69-140.98 GHz*,

144.68-144.98 GHz*,

145.45-145.75 GHz*,

146.82-147.12 GHz*,

150-151 GHz*,

174.42-175.02 GHz*,

177-177.4 GHz*,

178.2-178.6 GHz*,

181-181.46 GHz*,

186.2-186.6 GHz*,

250-251 GHz*,

257.5-258 GHz*,

261-265 GHz,

262.24-262.76 GHz*,

265-275 GHz,

265.64-266.16 GHz*,

267.34-267.86 GHz*,

271.74-272.26 GHz*

are allocated (* indicates radio astronomy use for spectral line observations), all practicable steps shall be taken to protect the radio astronomy service from harmful interference. Emissions from spaceborne or air-borne stations can be particularly serious sources of interference to the radio astronomy service (see Nos. 4.5 and 4.6 and Article 29 of the ITU Radio Regulations).

* * * * *

US364 Consistent with US18, stations may be authorized on a primary basis in the band 285-325 kHz for the specific purpose of transmitting differential global positioning system information.

US366 On April 1, 2007, the bands 5900-5950 kHz, 7300-7350 kHz, 9400-9500 kHz, 11600-11650 kHz, 12050-12100 kHz, 13570-13600 kHz, 13800-13870 kHz, 15600-15800 kHz, 17480-17550 kHz, and 18900-19020 kHz shall be allocated exclusively to the broadcasting service. Beginning April 1, 2007, frequencies in these bands may be used by stations in the fixed and mobile services, communicating only within the United States and its insular areas, on the condition that harmful interference is not caused to the broadcasting service. When using frequencies for fixed and mobile services, licensees shall be limited to the minimum power needed to achieve communications and shall take account of the seasonal use of frequencies by the broadcasting service published in accordance with Article 12 of the ITU Radio Regulations.

US367 On the condition that harmful interference is not caused to the broadcasting service, frequencies in the bands 9775-9900 kHz, 11650-11700 kHz, and 11975-12050 kHz may be used by Federal Government stations in the fixed service communicating within the United States and its insular areas that are authorized as of [effective date of the Report and Order published in the Federal Register]. Each such station shall be limited to a total radiated power of 24 dBW.

* * * * *

PART 73—RADIO BROADCAST SERVICES

3. The authority citation for part 73 continues to read as follows:

Authority: 47 U.S.C. 154, 303, 334 and 336.

4. Section 73.701 is amended by revising paragraphs (a), (e), (g), (h), (i), (j), and (l) to read as follows:

§ 73.701 Definitions.

* * * * *

(a) International broadcast stations. A broadcasting station employing frequencies allocated to the broadcasting service between 5900 and 26100 kHz, the transmissions of which are intended to be received directly by the general public in foreign countries. (A station may be authorized more than one transmitter.) There are both Federal and non-Federal Government international broadcast stations; only the latter are licensed by the Commission and are subject to the rules of this subpart.

* * * * *

(e) Coordinated Universal Time (UTC). Time scale, based on the second (SI), as defined in Recommendation ITU-R TF.460-5. UTC is equivalent to mean solar time at the prime median (0° longitude), formerly expressed as GMT.

* * * * *

(g) Day. Any twenty-four hour period beginning 0100 UTC and ending 0100 UTC.

(h) Schedule A. That portion of any year commencing at 0100 UTC on the last Sunday in March and ending at 0100 UTC on the last Sunday in October.

(i) Schedule B. That portion of any year commencing at 0100 UTC on the last Sunday in October and ending at 0100 UTC on the last Sunday in March.

(j) [Reserved]

* * * * *

(l) Reference month. That month of a season which is used for determining predicted propagation characteristics for the season. The reference month for Schedule A is July and the reference month for Schedule B is December.

* * * * *

5. Sections 73.702 is amended by revising paragraph (f) introductory text, (f)(1), (f)(2) introductory text, and (f)(3) to read as follows:

§ 73.702 Assignment and use of frequencies.

* * * * *

(f) Assigned frequencies shall be within the following bands, which are allocated on an exclusive basis to the broadcasting service:

(1) 5950-6200 kHz, 9500-9900 kHz, 11650-12050 kHz, 13600-13800 kHz, 15100-15600 kHz, 17550-17900 kHz, 21450-21850 kHz, and 25670-26100 kHz.

(2) In addition, the band 7100-7300 kHz is allocated on an exclusive basis to the broadcasting service in International Telecommunication Union (ITU) Regions 1 and 3 as defined in 47 CFR. 2.104(b). Assignments in the band 7100-7300 kHz shall be limited to international broadcast stations located in ITU Region 3 insular areas (as defined in 47 CFR. 2.105(a), note 4) that transmit to zones and areas of reception in ITU Region 1 or 3. In addition, during the hours of 0800-1600 UTC (Coordinated Universal Time) antenna gain with reference to an isotropic radiator in any easterly direction that would intersect any area in Region 2 shall not exceed 2.15 dBi, except in the case where a transmitter power of less than 100 kW is used. In this case, antenna gain on restricted azimuths shall not exceed that which is determined in accordance with equation below. Stations desiring to operate in this band must submit sufficient antenna performance information to ensure compliance with these restrictions. Permitted Gain for Transmitter powers less than 100 kW:

* * * * *

(3) In addition, frequencies within the following bands are assignable to the broadcasting service on an exclusive basis after April 1, 2007: 5900-5950 kHz, 7300-7350 kHz, 9400-9500 kHz, 11600-11650 kHz, 12050-12100 kHz, 13570-13600 kHz, 13800-13870 kHz, 15600-15800 kHz, 17480-17550 kHz, and 18900-19020 kHz (WARC-92 HFBC bands).

* * * * *

6. Section 73.703 is amended by revising the map to read as follows:

§ 73.703 Geographical zones and areas of reception.

* * * * *

BILLING CODE 6712-01-P

BILLING CODE 6712-01-C

7. Section 73.756 is amended by revising paragraph (c) to read as follows:

§ 73.756 Transmission system requirements.

* * * * *

(c) Frequency tolerance. The transmitter shall maintain the operating frequency within 10 Hz of the assigned frequency.

8. Section 73.766 is revised to read as follows:

§ 73.766 Modulation and bandwidth.

The percentage of modulation shall be maintained as high as possible consistent with good quality of transmission and good broadcast practice. In no case shall it exceed 100 percent on positive or negative peaks of frequent recurrence. It should not be less than 85 percent on peaks of frequent recurrence. The range of modulation frequencies shall be so controlled that the authorized bandwidth of the emission shall not be exceeded under all conditions of modulation. The highest modulating frequency shall not exceed 4.5 kHz.

PART 74—EXPERIMENTAL RADIO, AUXILIARY, SPECIAL BROADCASTING AND OTHER PROGRAM DISTRIBUTIONAL SERVICES

9. The authority citation for part 74 continues to read as follows:

Authority: 47 U.S.C. 154, 303, 307, 336(f), 336(h), and 554.

10. Section 74.402 is amended by revising paragraph (a) introductory text and by removing and reserving paragraphs (a)(1) and (e)(1) to read as follows:

§ 74.402 Frequency assignment.

(a) The following channels may be assigned for use by broadcast remote pickup stations using any emission (other than single sideband or pulse) that will be in accordance with the provisions of § 74.462.

* * * * *

§ 74.462 [Amended]

11. Section 74.462 is amended by removing the entry containing the single text “kHz” in the Frequencies column and the entry for frequencies 1606, 1622, and 1646 from the table in paragraph (b).

§ 74.464 [Amended]

12. Section 74.464 is amended by removing the entry for frequency range 1.6 to 2 MHz, the entry for 200 W or less, the entry for over 200 W, and footnote 1 from the table.

PART 80—STATIONS IN THE MARITIME SERVICES

13. The authority citation for part 80 continues to read as follows:

Authority: Secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

14. Section 80.373 is amended by revising paragraph (d)(1) and by revising the first seven entries in column 1 of the table in paragraph (i) to read as follows:

§ 80.373 Private communications frequencies.

* * * * *

(d) * * *

(1) The following table describes the bands available for radioprinter simplex communications between ship and private coast stations:

Frequency Bands (kHz)

2107-2170 4750-4850

2194-2495 5060-5450

2505-2850 5700-5950 ¹

3155-3400 7300-8100 ¹

4438-4650

¹ After April 1, 2007, use of the sub-bands 5900-5950 kHz and 7300-7350 kHz shall be on the condition that harmful interference is not caused to HF broadcasting.

* * * * *

(i) * * *

Private Communications in Alaska Carrier Frequencies (kHz)

1619.0 ³ * * *

1622.0 ³

1643.0 ³

1646.0 ³

1649.0 ³

1652.0 ³

1705.0 ³

* * *

* * * * *

³ Use of these frequencies is on a secondary basis to Region 2 broadcasting.

* * * * *

15. Section 80.387 is amended by revising the table in paragraph (b) to read as follows:

§ 80.387 Frequencies for Alaska fixed stations.

(b) Alaska private-fixed station frequencies:

Carrier Frequencies (kHz)
1643.0 ⁴ | 2430.0 | 2773.0
1646.0 ⁴ | 2447.0 | 3164.5
1649.0 ⁴ | 2450.0 | 3183.0
1652.0 ⁴ | 2463.0 | 3196.0
1657.0 ⁴ | 2466.0 | 3201.0
1660.0 1 4 | 2471.0 | 3258.0
1705.0 ⁴ | 2479.0 | 3261.0
1709.0 | 2482.0 | 3303.0
1712.0 | 2506.0 | 3365.0
2003.0 | 2509.0 | 4035.0
2006.0 | 2512.0 | 5164.5
2115.0 | 2535.0 | ³ 5167.5
2118.0 | 2538.0 | 5204.5
2253.0 | 2563.0 | ² 6948.5
2400.0 | 2566.0 | ² 7368.5
2419.0 | 2601.0 | 8067.0
2422.0 | 2616.0 | 8070.0
2427.0 | 2691.0 | ² 11437.0
|  | 2 5 11601.5
¹ Use of 1660.0 kHz must be coordinated to protect radiolocation on adjacent channels.
² Peak envelope power must not exceed 1 kW for radiotelephony. Teleprinter use is authorized.
³ The frequency 5167.5 kHz is available for emergency communications in Alaska. Peak envelope power of stations operating on this frequency must not exceed 150 watts. When a station in Alaska is authorized to use 5167.5 kHz, such station may also use this frequency for calling and listening for the purpose of establishing communications.
⁴ Use of these frequencies is on a secondary basis to Region 2 broadcasting.
⁵ After April 1, 2007, use of the frequency 11601.5 kHz shall be on the condition that harmful interference is not caused to HF broadcasting.

* * * * *

PART 90—PRIVATE LAND MOBILE RADIO SERVICES

16. The authority citation for part 90 continues to read as follows:

Authority: Sections 4(i), 11, 303(g), 303(r), and 332(c)(7) of the Communications Act of 1934, as amended, 47 U.S.C. 154(i), 161, 303(g), 303(r), 332(c)(7).

§ 90.20 [Amended]

17. Section 90.20 is amended by removing the frequency entry for “1630” in paragraph (c)(3).

18. Amend § 90.35 as follows:

a. In paragraph (b)(3), remove the frequency entries for 1614, 1628, 1652, 1676, and 1700 kHz.

b. In paragraph (b)(3), revise the frequency entries for 25.12, 25.14, 25.16, 25.18, and 25.20 MHz.

c. In paragraph (b)(3), add the frequency entries in numerical order for 27.555, 27.615, 27.635, 27.655, 27.765, and 27.86 MHz.

d. Remove and reserve paragraph (c)(2).

e. Add paragraph (c)(82).

The additions and revisions read as follows:

§ 90.35 Industrial/Business Pool.

* * * * *

(b) * * *

Industrial/Business Pool Frequency Table
Frequency or band | Class of station(s) | Limitations | Coordinator
Kilohertz
2000 to 25000 | Fixed, base or mobile | 1
2292 | Base or mobile | 4, 5, 7
2398 | ......do | 5, 7
4637.5 | ......do | 5, 7
Megahertz
* * * * * * *
25.12 | ......do | 9 | IP
25.14 | ......do | 3, 4, 9 | IP
25.16 | ......do | 9 | IP
25.18 | ......do | 3, 4, 9 | IP
25.20 | ......do | 9 | IP
* * * * * * *
27.555 | Base or mobile | 82
27.615 | ......do | 82
27.635 | ......do | 82
27.655 | ......do | 82
27.765 | ......do | 82
27.86 | ......do | 82
29.71 | ......do
* * * * * * *

(c) * * *

(82) The frequency may be assigned only to entities meeting the definition of a forest product licensee (see § 90.7). Operations are on a secondary basis to Federal Government operations including experimental stations, will not exceed 150 watts output power, and are limited to the states of Washington, Oregon, Maine, North Carolina, South Carolina, Tennessee, Georgia, Florida, Alabama, Mississippi, Louisiana, and Texas (eastern portion).

* * * * *

19. Section 90.103 is amended by revising the kilohertz section of the table in paragraph (b), by revising paragraph (c)(4), by removing paragraphs (c)(28) and (c)(29), and by redesignating paragraphs (c)(30) and (c)(31) as paragraphs (c)(28) and (c)(29) to read as follows:

§ 90.103 Radiolocation Service.

* * * * *

(b) * * *

Radiolocation Service Frequency Table
Frequency or band | Class of station(s) | Limitations
Kilohertz
70 to 90 | Radiolocation land or mobile | 1
90 to 110 | Radiolocation land | 2
110 to 130 | Radiolocation land or mobile | 1
1705 to 1715 | ......do | 4, 5, 6
1715 to 1750 | ......do | 5, 6
1750 to 1800 | ......do | 5, 6, 7
1900 to 1950 | ......do | 6, 25, 26, 27, and 30
1950 to 2000 | ......do | 6, 25, 27, and 30
3230 to 3400 | ......do | 6, 8
* * * * * * *

(c) * * *

(4) The non-Federal Government radiolocation service in this band is on a secondary basis to stations in the aeronautical radionavigation service operating on 1708 kHz.

* * * * *

20. Section 90.263 is revised to read as follows:

§ 90.263 Substitution of frequencies below 25 MHz.

Frequencies below 25 MHz when shown in the radio pool frequency listings under this part will be assigned to base or mobile stations only upon a satisfactory showing that, from a safety of life standpoint, frequencies above 25 MHz will not meet the operational requirements of the applicant. These frequencies are available for assignment in many areas; however, in individual cases such assignment may be impracticable due to conflicting frequency use authorized to stations in other services by this and other countries. In such cases, a substitute frequency, if found to be available, may be assigned from the following bands: 1705-1750 kHz, 2107-2170 kHz, 2194-2495 kHz, 2506-2850 kHz, 3155-3400 kHz, or 4438-4650 kHz. Since such assignments are in certain instances subject to additional technical and operation limitations, it is necessary that each application also include precise information concerning transmitter output power, type and directional characteristics, if any, of the antenna, and the minimum necessary hours of operation. (This section is not applicable to the Radiolocation Radio Service, subpart F.)

PART 97—AMATEUR RADIO SERVICE

21. The authority citation for part 97 continues to read as follows:

Authority: 48 Stat. 1066, 1082, as amended; 47 U.S.C. 154, 303. Interpret or apply 48 Stat. 1064-1068, 1081-1105, as amended; 47 U.S.C. 151-155, 301-609, unless otherwise noted.

§ 97.401 [Amended]

22. Section 97.401 is amended by removing paragraph (b) and by redesignating paragraphs (c) and (d) as (b) and (c).

[FR Doc. 03-11723 Filed 5-12-03; 8:45 am]

BILLING CODE 6712-01-P